ENVIRONMENTAL PROTECTION AGENCY

[EPA-HQ-OPP-2018-0014; FRL-9976-99]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1 and Table 2 of Unit II, pursuant to the Federal Insecticide, Fungicide, and Rodenticide Act (FIFRA). This cancellation order follows an March 6, 2018 Federal Register Notice of Receipt of Requests from the registrants listed in Table 3 of Unit II to voluntarily cancel and amend to terminate uses of these product registrations. In the March 6, 2018 notice, EPA indicated that it would issue an order implementing the cancellations and amendments to terminate uses, unless the Agency received substantive comments within the 30-day comment period that would merit its further review of these requests, or unless the registrants withdrew their requests. The Agency received 5 anonymous public comments on the notice but none merited its further review of the requests. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective May 31, 2018.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg, Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to terminate uses, as requested by registrants, of products registered under FIFRA section 3 (7 U.S.C. 136a).

These registrations are listed in sequence by registration number in Tables 1 and 2 of this unit.

Table 1—Product Cancellations
Registration No. | Company No. | Product name | Active ingredient
100-774 | 100 | Exceed Herbicide | Primisulfuron-methyl & Prosulfuron.
100-907 | 100 | Discover Herbicide | Clodinafop-propargyl (CAS Reg. No.105512-06-9).
264-1144 | 264 | Serenade Biofungicide Wettable Powder | QST 713 strain of bacillus subtilis.
264-1148 | 264 | Serenade | QST 713 strain of bacillus subtilis.
264-1149 | 264 | Serenade AS | QST 713 strain of bacillus subtilis.
264-1150 | 264 | Rhapsody AS | QST 713 strain of bacillus subtilis.
432-960 | 432 | Derringer F Herbicide | Glufosinate.
432-1559 | 432 | DuPont Tranxit Herbicide | Rimsulfuron.
432-1562 | 432 | Cimarron X-Tra Herbicide | Chlorsulfuron & Metsulfuron.
1448-353 | 1448 | Slimacide V-10 | Acetic acid, bromo-, 2-butene-1,4-diyl ester.
1448-374 | 1448 | BBAB | Acetic acid, bromo-, 2-butene-1,4-diyl ester.
2217-881 | 2217 | Gordon's Wasp & Hornet Spray | Piperonyl butoxide; Permethrin & Tetramethrin.
2596-156 | 2596 | Hartz Reference #124 | Pyriproxyfen & Phenothrin.
2596-159 | 2596 | Hartz Reference #127 | Pyriproxyfen; S-Methoprene & Phenothrin.
2915-26 | 2915 | Scented Moth Block | Paradichlorobenzene.
5185-421 | 5185 | Spa Brom Tablets | 2,4-Imidazolidinedione, 1-bromo-3-chloro-5,5-dimethyl-.
5185-433 | 5185 | Spa Brom Veriflo | 2,4-Imidazolidinedione, 1-bromo-3-chloro-5,5-dimethyl-.
5185-452 | 5185 | BCDMH99N-M | 2,4-Imidazolidinedione, 1-bromo-3-chloro-5,5-dimethyl-.
5185-454 | 5185 | BCDMH97NC-M | 2,4-Imidazolidinedione, 1-bromo-3-chloro-5,5-dimethyl-.
5185-456 | 5185 | BCDMH96NCR-M | 2,4-Imidazolidinedione, 1-bromo-3-chloro-5,5-dimethyl-.
5185-457 | 5185 | BCDMH94NCR-M | 2,4-Imidazolidinedione, 1-bromo-3-chloro-5,5-dimethyl-.
5185-469 | 5185 | Home Care Drop In | 2,4-Imidazolidinedione, 1-bromo-3-chloro-5,5-dimethyl-.
5185-480 | 5185 | Polaris Precis Spa Floater Cartridge | 2,4-Imidazolidinedione, 1-bromo-3-chloro-5,5-dimethyl-.
5185-490 | 5185 | Biolab BCDMH Granular | 2,4-Imidazolidinedione, 1-bromo-3-chloro-5,5-dimethyl-.
6836-109 | 6836 | Glychlor Powder | 1,3-Dichloro-5,5-dimethylhydantoin.
6836-110 | 6836 | Bromchlor Powder | 1,3-Dibromo-5,5-dimethylhydantoin & 2,4-Imidazolidinedione, 1-bromo-3-chloro-5,5-dimethyl-.
6836-118 | 6836 | Dantobrom P | 2,4-Imidazolidinedione, 1-bromo-3-chloro-5,5-dimethyl-; 1,3-Dichloro-5,5-dimethylhydantoin & 1,3-Dichloro-5-ethyl-5-methylhydantoin.
6836-120 | 6836 | Glybrom RW-90 | 2,4-Imidazolidinedione, 1-bromo-3-chloro-5,5-dimethyl- & 1,3-Dibromo-5,5-dimethylhydantoin.
6836-121 | 6836 | Glybrom RW-92.5 | 2,4-Imidazolidinedione, 1-bromo-3-chloro-5,5-dimethyl- & 1,3-Dibromo-5,5-dimethylhydantoin.
6836-122 | 6836 | Glybrom RW-93.5 | 2,4-Imidazolidinedione, 1-bromo-3-chloro-5,5-dimethyl- & 1,3-Dibromo-5,5-dimethylhydantoin.
6836-196 | 6836 | Bio Guard Bromo Brix Spa Brominating Briquettes | 2,4-Imidazolidinedione, 1-bromo-3-chloro-5,5-dimethyl-; 1,3-Dichloro-5,5-dimethylhydantoin & 1,3-Dichloro-5-ethyl-5-methylhydantoin.
6836-197 | 6836 | Bioguard Brombrix Pool Brominating Briquettes | 2,4-Imidazolidinedione, 1-bromo-3-chloro-5,5-dimethyl-; 1,3-Dichloro-5,5-dimethylhydantoin & 1,3-Dichloro-5-ethyl-5-methylhydantoin.
6836-242 | 6836 | Kem Tek Spa Kem Brominating Tablets | 2,4-Imidazolidinedione, 1-bromo-3-chloro-5,5-dimethyl-; 1,3-Dichloro-5,5-dimethylhydantoin & 1,3-Dichloro-5-ethyl-5-methylhydantoin.
6836-243 | 6836 | Kem Tek Spa Kem Bromi-Buoy | 2,4-Imidazolidinedione, 1-bromo-3-chloro-5,5-dimethyl-; 1,3-Dichloro-5,5-dimethylhydantoin & 1,3-Dichloro-5-ethyl-5-methylhydantoin.
6836-265 | 6836 | Dantobrom TBS-2.5 | 2,4-Imidazolidinedione, 1-bromo-3-chloro-5,5-dimethyl-; 1,3-Dichloro-5,5-dimethylhydantoin & 1,3-Dichloro-5-ethyl-5-methylhydantoin.
6836-272 | 6836 | Dantobrom TBS-4A | 2,4-Imidazolidinedione, 1-bromo-3-chloro-5,5-dimethyl-; 1,3-Dichloro-5,5-dimethylhydantoin & 1,3-Dichloro-5-ethyl-5-methylhydantoin.
6836-273 | 6836 | Dantobrom TBS-5A | 2,4-Imidazolidinedione, 1-bromo-3-chloro-5,5-dimethyl-; 1,3-Dichloro-5,5-dimethylhydantoin & 1,3-Dichloro-5-ethyl-5-methylhydantoin.
6836-282 | 6836 | Dantobrom PG Briquettes | 2,4-Imidazolidinedione, 1-bromo-3-chloro-5,5-dimethyl-; 1,3-Dichloro-5,5-dimethylhydantoin & 1,3-Dichloro-5-ethyl-5-methylhydantoin.
6836-291 | 6836 | Dantochlor TBS-6 | 1,3-Dichloro-5,5-dimethylhydantoin & 1,3-Dichloro-5-ethyl-5-methylhydantoin.
6836-299 | 6836 | Dantobrom TBS-7 | 2,4-Imidazolidinedione, 1-bromo-3-chloro-5,5-dimethyl-; 1,3-Dichloro-5,5-dimethylhydantoin & 1,3-Dichloro-5-ethyl-5-methylhydantoin.
6836-300 | 6836 | Dantobrom TBS-6 | 2,4-Imidazolidinedione, 1-bromo-3-chloro-5,5-dimethyl-; 1,3-Dichloro-5,5-dimethylhydantoin & 1,3-Dichloro-5-ethyl-5-methylhydantoin.
6836-312 | 6836 | Glybrom PG-100 Powder | 2,4-Imidazolidinedione, 1-bromo-3-chloro-5,5-dimethyl- & 1,3-Dibromo-5,5-dimethylhydantoin.
6836-319 | 6836 | Glychlor PG-100 Powder | 1,3-Dichloro-5,5-dimethylhydantoin.
7124-102 | 7124 | Maxibrom Slow Dissolving Brominating Tablets for Swimming Pools & Spas | 2,4-Imidazolidinedione, 1-bromo-3-chloro-5,5-dimethyl-.
7124-103 | 7124 | Maxibrom Slow Dissolving Brominating Tablets for Spas & Hot Tubs | 2,4-Imidazolidinedione, 1-bromo-3-chloro-5,5-dimethyl-.
7124-104 | 7124 | Hydrobrom 3 oz. Slow Dissolving Brominating Tablets for Swimming Pools | 2,4-Imidazolidinedione, 1-bromo-3-chloro-5,5-dimethyl-.
7401-319 | 7401 | Ferti-Lome Quik-Kill Home & Garden Insect Spray | Piperonyl butoxide & Pyrethrins.
7401-388 | 7401 | Hi-Yield Whitefly and Mealybug Killer | Piperonyl butoxide & Pyrethrins.
9688-288 | 9688 | Chemsico Aerosol LEG | o-Phenylphenol (No inert use).
10163-345 | 10163 | T&O Fertilizer—Contains Gallery Plus Team | Trifluralin; Benfluralin & Isoxaben.
10163-353 | 10163 | Turf Fertilizer—Contains Gallery Plus Team Pro | Benfluralin; Trifluralin & Isoxaben.
10163-364 | 10163 | Showcase | Oxyfluorfen; Isoxaben & Trifluralin.
33595-9 | 33595 | Envicide II | Isopropyl alcohol; Alkyl* dimethyl benzyl ammonium chloride *(60%C14, 30%C16, 5%C18, 5%C12) & Alkyl* dimethyl ethylbenzyl ammonium chloride *(68%C12, 32%C14).
62719-713 | 62719 | MON 89034 X TC1507 X MON 87411 X DAS-59122-7 Insect-Protected, Herbicide-Tolerant Corn | dsRNA transcript comprising a DvSnf7 inverted repeat sequence derived from western corn rootworm (Diabrotica virgifera) and the genetic material necessary for its production MON 87411 corn; Bacillus thuringiensis Cry1A.105 protein and genetic material necessary (vector PV-ZMIR245) for its production in corn; Bacillus thuringiensis Cry2Ab2 protein and the genetic material necessary (vector PV-ZMIR245) for its production in corn; Bacillus thuringiensis Cry1F protein and the genetic material necessary for its production (plasmid insert PHI8999) in corn; Bacillus thuringiensis Cry3Bb1 protein and the genetic material necessary for its production (vector PV-ZMIR10871) in corn event MON 87411 & Bacillus thuringiensis Cry34Ab1 and Cry35Ab1 proteins and the genetic material necessary for their production in corn.
66330-41 | 66330 | Endorse Wettable Powder Fungicide | Polyoxin D zinc salt.
66330-412 | 66330 | ARY 0411-0485 Tank Mix Herbicide | Clethodim & Sodium bentazon.
66397-1 | 66397 | Aqua Basics Brominating Tablets | 2,4-Imidazolidinedione, 1-bromo-3-chloro-5,5-dimethyl- & 1,3-Dibromo-5,5-dimethylhydantoin.
66397-2 | 66397 | Aqua Basics 3oz.-2” Brominating Tablets | 2,4-Imidazolidinedione, 1-bromo-3-chloro-5,5-dimethyl- & 1,3-Dibromo-5,5-dimethylhydantoin.
67360-7 | 67360 | Intercide ABF-2 RF501 | 10,10'-Oxybisphenoxarsine.
67360-9 | 67360 | Intercide ABF-5 DIDP | 10,10'-Oxybisphenoxarsine.
83979-7 | 83979 | Rotam Paraquat Concentrate | Paraquat dichloride.
87931-13 | 87931 | Raymat Pyriproxyfen Technical | Pyriproxyfen.
91640-1 | 91640 | 2,4-D Technical | 2,4-D.
AZ-070009 | 10163 | Nexter | Pyridaben.
CA-100006 | 19713 | Drexel Captan 4L Fungicide | Captan.
CA-110006 | 100 | Touchdown Total | Glyphosate.
CA-870029 | 10163 | Treflan TR-10 | Trifluralin.
CA-870071 | 60244 | Orthene 75 S Soluble Powder | Acephate.
CA-930008 | 60217 | Sprout NIP Emulsifiable Concentrate | Chlorpropham.
CO-090007 | 5481 | Orthene Turf, Tree & Ornamental 97 Spray | Acephate.
DE-140004 | 81880 | Sandea Herbicide | Halosulfuron-methyl.
FL-140003 | 81880 | Sandea Herbicide | Halosulfuron-methyl.
GA-140001 | 81880 | Sandea Herbicide | Halosulfuron-methyl.
IN-140001 | 81880 | Sandea Herbicide | Halosulfuron-methyl.
LA-120010 | 100 | Gramoxone SL 2.0 | Paraquat dichloride.
MD-140001 | 81880 | Sandea Herbicide | Halosulfuron-methyl.
MI-120003 | 81880 | Sandea Herbicide | Halosulfuron-methyl.
NC-140001 | 81880 | Sandea Herbicide | Halosulfuron-methyl.
ND-050010 | 10163 | Sonalan 10G | Ethalfluralin.
ND-090004 | 10163 | Sonalan 10G | Ethalfluralin.
NV-130001 | 10163 | Onager 1E | Hexythiazox.
VA-140001 | 81880 | Sandea Herbicide | Halosulfuron-methyl.
WA-010009 | 34704 | Saber Herbicide | 2,4-D, dimethylamine salt.
WA-040027 | 5481 | Discipline 2EC | Bifenthrin.
WA-040030 | 34704 | Atrazine 4L | Atrazine.
WA-040034 | 66222 | Diazinon AG500 | Diazinon.
WA-050005 | 5481 | Discipline 2EC | Bifenthrin.
WA-090013 | 34704 | Curbit EC Herbicide | Ethalfluralin.
WA-900040 | 34704 | Clean Crop Simazine 4L Flowable Herbicide | Simazine.
WA-980025 | 34704 | Clean Crop Supreme Oil | Mineral oil—includes paraffin oil from 063503.
WI-140002 | 81880 | Sandea Herbicide | Halosulfuron-methyl.
WY-070008 | 10163 | Onager Miticide | Hexythiazox.

Table 2—Product Registration Amendments To Terminate Uses
Registration No. | Company No. | Product name | Active ingredient | Uses to be terminated
100-969 | 100 | Scholar Fungicide | Fludioxonil | Pre-harvest uses and associated pre-harvest label language for the following crops: Melons and the post-harvest uses for citrus, pineapple, pome, tuberous and corm vegetable subgroup 1C, stone fruit, sweet potatoes, tomato, tropical fruit, and true yam without prejudice.
100-1131 | 100 | Callisto Herbicide | Mesotrione | Tolerances for Grass, Seed screenings and grass, straw.
1839-18 | 1839 | BTC 776 Concentrated Germicide | Alkyl* dimethyl benzyl ammonium chloride *(60%C14, 30%C16, 5%C18, 5%C12) & Dialkyl* methyl benzyl ammonium chloride *(60% C14, 30% C16, 5% C18, 5% C12) | Turfs/Lawns.
1839-19 | 1839 | BTC 8249 | Alkyl* dimethyl benzyl ammonium chloride *(60%C14, 30%C16, 5%C18, 5%C12) | Turfs/Lawns.
1839-23 | 1839 | BTC 824 | Alkyl* dimethyl benzyl ammonium chloride *(60%C14, 30%C16, 5%C18, 5%C12) | Turfs/Lawns.
1839-33 | 1839 | BTC 8248 | Alkyl* dimethyl benzyl ammonium chloride *(60%C14, 30%C16, 5%C18, 5%C12) | Turfs/Lawns.
1839-46 | 1839 | BTC 2125M | Alkyl* dimethyl benzyl ammonium chloride *(60%C14, 30%C16, 5%C18, 5%C12) & Alkyl* dimethyl ethylbenzyl ammonium chloride *(68%C12, 32%C14) | Turfs/Lawns.
1839-54 | 1839 | BTC 2125M-80% | Alkyl* dimethyl benzyl ammonium chloride *(60%C14, 30%C16, 5%C18, 5%C12) & Alkyl* dimethyl ethylbenzyl ammonium chloride *(68%C12, 32%C14) | Turfs/Lawns.
1839-55 | 1839 | BTC 2125 M-P 40 | Alkyl* dimethyl benzyl ammonium chloride *(60%C14, 30%C16, 5%C18, 5%C12) & Alkyl* dimethyl ethylbenzyl ammonium chloride *(68%C12, 32%C14) | Turfs/Lawns.
1839-65 | 1839 | BTC 65 | Alkyl* dimethyl benzyl ammonium chloride *(67%C12, 25%C14, 7%C16, 1%C8, C10, and C18) | Turfs/Lawns.
1839-68 | 1839 | BTC 8358 | Alkyl* dimethyl benzyl ammonium chloride *(50%C14, 40%C12, 10%C16) | Turfs/Lawns.
1839-207 | 1839 | BTC 5814-80% | Alkyl* dimethyl benzyl ammonium chloride *(58%C14, 28%C16, 14%C12) | Turfs/Lawns.
1839-228 | 1839 | BTC 451 P/S | Alkyl* dimethyl benzyl ammonium chloride *(50%C14, 40%C12, 10%C16) | Turfs/Lawns.
53883-310 | 53883 | Quali-Pro Chlorothalonil 720 SFT | Chlorothalonil | Apricot, cherry (sweet), cherry (tart), nectarine, peach, plum and prune.
53883-313 | 53883 | Quali-Pro Chlorothalonil DF | Chlorothalonil | Apricot, cherry (sweet), cherry (tart), nectarine, peach, plum and prune.
62097-15 | 62097 | Uniconazole-P Technical | Uniconazole P | Outdoor shade house and lath house.
62097-18 | 62097 | Concise | Uniconazole P | Outdoor shade house and lath house.
65217-1 | 65217 | Biobor JF | 1,3,2-Dioxaborinane, 2,2'-((1-methyl-1,3-propanediyl)bis(oxy))bis(4-methyl- & 1,3,2-Dioxaborinane, 2,2'oxybis(4,4,6-trimethyl- | Wood preservative.
75499-19 | 75499 | Vitagib 40% Soluble Powder Plant Growth Regulator | Gibberellic acid | Silage.

Table 3 of this unit includes the names and addresses of record for all registrants of the products in Table 1 and Table 2 of this unit, in sequence by EPA company number. This number corresponds to the first part of the EPA registration numbers of the products listed in Table 1 and Table 2 of this unit.

EPA company No. | Company name and address
100 | Syngenta Crop Protection, LLC, 410 Swing Road, P.O. Box 18300, Greensboro, NC 27419-8300.
264 | Bayer CropScience, LP, 2 T.W. Alexander Drive, P.O. Box 12014, Research Triangle Park, NC 27709.
432 | Bayer Environmental Science, A Division of Bayer CropScience, LP, 2 T.W. Alexander Drive, Research Triangle Park, NC 27709.
1448 | Buckman Laboratories, Inc., 1256 North McLean Blvd., Memphis, TN 38108.
1839 | Stepan Company, 22 W. Frontage Rd., Northfield, IL 60093.
2217 | PBI-Gordon Corporation, 1217 West 12th Street, P.O. Box 014090, Kansas City, MI 64101-0090.
2596 | The Hartz Mountain Corporation, 400 Plaza Drive, Secaucus, NJ 07094.
2915 | The Fuller Brush Company, 860 Kaiser Road, Suite D, Napa, CA 94558.
5185 | Bio-Lab, Inc., P.O. Box 300002, Lawrenceville, GA 30049-1002.
5481 | AMVAC Chemical Corporation, 4695 MacArthur Court, Suite 1200, Newport Beach, CA 92660-1706.
6836 | Lonza, Inc., 90 Boroline Road, Allendale, NJ 07401.
7124 | Alden Leeds, Inc., 55 Jacobus Ave., South Kearny, NJ 07032.
7401 | Voluntary Purchasing Groups, Inc., Agent Name: Pyxis Regulatory Consulting, Inc., 4110 136th Street Ct. NW, Gig Harbor, WA 98332.
9688 | Chemsico, A Division of United Industries Corp., P.O. Box 142642, St. Louis, MO 63114-0642.
10163 | Gowan Company, P.O. Box 5569, Yuma, AZ 85366.
19713 | Drexel Chemical Company, P.O. Box 13327, Memphis, TN 38113-0327.
33595 | Plaze, Inc., 1000 Integram Drive, Pacific, MO 63069.
34704 | Loveland Products, Inc., P.O. Box 1286, Greeley, CO 80632-1286.
53883 | Control Solutions, Inc., 5903 Genoa Red Bluff Road, Pasadena, TX 77507.
60217 | Easter Lily Research Foundation, (of the) Pacific Bulb Growers Assc., P.O. Box 907, Brookings, OR 97415.
60244 | Seminis Vegetable Seeds, 37437 State Highway 16, Woodland, CA 95695.
62097 | Fine Agrochemicals, Ltd., Agent Name: SciReg, Inc., 12733 Director's Loop, Woodbridge, VA 22192.
62719 | Dow AgrosSciences, LLC, 9330 Zionsville Rd., 308/2E, Indianapolis, IN 46268-1054.
65217 | Hammonds Fuel Additives, Inc., Agent Name: Delta Analytical Corp., 12510 Prosperity Drive, Suite 160, Silver Spring, MD 20904.
66222 | Makhteshim Agan of North America, Inc., d/b/a ADAMA, 3120 Highwoods Blvd., Suite 100, Raleigh, NC 27604.
66330 | Arysta LifeScience North America, LLC, 15401 Weston Parkway, Suite 150, Cary, NC 27513.
66397 | Mid-Continent Packaging, Inc., 1200 N 54th Street, Enid, OK 73701.
67360 | Polymer Additives, Inc., d/b/a Valtris Specialty Chemicals, Agent Name: Technology Sciences Group, Inc., 1150 18th St., NW, Suite 1000, Washington, DC 20036.
75499 | Plant Synergists, Inc., 4730 Kingussie Drive, Houston, TX 77084.
81880 | Canyon Group, LLC, c/o Gowan Company, 370 S. Main Street, Yuma, AZ 85364.
83979 | Rotam North America, Inc., Agent Name: Wagner Regulatory Associates, Inc., P.O. Box 640, Hockessin, DE 19707.
87931 | Raymat Materials, Inc., Agent Name: Pyxis Regulatory Consulting, Inc., 4110 136th Street Ct. NW, Gig Harbor, WA 98332.
91640 | Genmerica NA, LLC, Agent Name: GHB Consulting, 1660 3rd Ave., SW, Le Mars, IA 51031.

III. Summary of Public Comments Received and Agency Response to Comments

During the public comment period provided EPA received 5 anonymous public comments. The Agency does not believe that the comments submitted during the comment period merits further review or the denial of the requests for the voluntary cancellations of products listed in Table 1 of Unit II or the requests for the amendments to terminate uses in Table 2 of Unit II.

IV. Cancellation Order

Pursuant to FIFRA section 6(f) (7 U.S.C. 136d(f)(1)), EPA hereby approves the requested cancellations and amendments to terminate uses of the registrations identified in Tables 1 and 2 of Unit II. Accordingly, the Agency hereby orders that the product registrations identified in Tables 1 and 2 of Unit II are canceled and amended to terminate the affected uses. The effective date of the cancellations that are subject of this notice is May 31, 2018. Any distribution, sale, or use of existing stocks of the products identified in Tables 1 and 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of March 6, 2018 (83 FR 9512) (FRL-9974-09). The comment period closed on April 5, 2018.

VI. Provisions for Disposition of Existing Stocks

Existing stocks are those stocks of registered pesticide products which are currently in the United States and which were packaged, labeled, and released for shipment prior to the effective date of the action. The existing stocks provision for the products subject to this order is as follows.

A. For Product 100-907

The registrant has requested to the Agency via letter dated November 10, 2017, a 12-month period (until November 30, 2018), to sell, distribute or use existing stocks of the subject product.

For all other voluntary product cancellations identified in Table 1 of Unit II, registrants will be permitted to sell and distribute existing stocks of voluntarily canceled products for 1 year after the effective date of the cancellation, which will be the date of publication of the cancellation order in the Federal Register. Thereafter, registrants will be prohibited from selling or distributing the products identified in Table 1 of Unit II, except for export consistent with FIFRA section 17 (7 U.S.C. 136o) or for proper disposal.

Now that EPA has approved product labels reflecting the requested amendments to terminate uses for the products listed in Table 2 of Unit II, registrants are permitted to sell or distribute the products listed in Table 2 of Unit II, under the previously approved labeling until December 2, 2019, unless other restrictions have been imposed. Thereafter, registrants will be prohibited from selling or distributing the products whose labels include the terminated uses identified in Table 2 of Unit II, except for export consistent with FIFRA section 17 or for proper disposal.

Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: May 3, 2018.
Delores Barber,
Director, Information Technology and Resources Management Division, Office of Pesticide Programs.

[FR Doc. 2018-11731 Filed 5-30-18; 8:45 am]

BILLING CODE 6560-50-P